DEPARTMENT OF THE INTERIOR

Fish and Wildlife Service

[FWS-HQ-IA-2013-N180; FXIA16710900000P5-123-FF09A30000]

Endangered Species; Marine Mammals; Issuance of Permits

AGENCY: Fish and Wildlife Service, Interior.

ACTION: Notice of issuance of permits.

SUMMARY: We, the U.S. Fish and Wildlife Service (Service), have issued the following permits to conduct certain activities with endangered species, marine mammals, or both. We issue these permits under the Endangered Species Act (ESA) and Marine Mammal Protection Act (MMPA).

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) The application was filed in good faith, (2) The granted permit would not operate to the disadvantage of the endangered species, and (3) The granted permit would be consistent with the purposes and policy set forth in section 2 of the ESA.

Endangered Species
Permit No. | Applicant | Receipt of application Federal Register notice | Permit issuance date
84465A | The Board of Trustees of the University of Illinois | 78 FR 9725; February 11, 2013 | June 14, 2013.
675484 | Birmingham Zoo, Inc. | 78 FR 16292; March 14, 2013 | May 1, 2013.
036218 | Brevard Zoo | 78 FR 1771; March 22, 2013 | May 1, 2013.
682781 | Chicago Zoological Society | 78 FR 1771; March 22, 2013 | May 1, 2013.
808265 | Gary Johnson | 78 FR 1771; March 22, 2013 | May 1, 2013.
678968 | Mesker Park Zoo | 78 FR 1771; March 22, 2013 | May 1, 2013.
677662 | Oregon Zoo | 78 FR 1771; March 22, 2013 | May 1, 2013.
99438A | Richard Ray | 78 FR 1771; March 22, 2013 | May 1, 2013.
56309A | Charles Salisbury | 78 FR 1771; March 22, 2013 | May 1, 2013.
679328 | Zoological Society of Philadelphia | 78 FR 1771; March 22, 2013 | May 1, 2013.
99836A | 3-S Texas Outdoors, LLC | 78 FR 19731; April 2, 2013 | May 6, 2013.
99837A | 3-S Texas Outdoors, LLC | 78 FR 19731; April 2, 2013 | May 6, 2013.
99809A | M.J.V. Inc. | 78 FR 19731; April 2, 2013 | May 6, 2013.
99811A | M.J.V. Inc. | 78 FR 19731; April 2, 2013 | May 6, 2013.
776134 | Larry Johnson | 78 FR 21627; April 11, 2013 | May 16, 2013.
00452B | Dark Horse Ent. | 78 FR 21627; April 11, 2013 | May 17, 2013.
00453B | Dark Horse Ent. | 78 FR 21627; April 11, 2013 | May 17, 2013.
94907A | Jonathon Pauli, University of Wisconsin | 78 FR 21627; April 11, 2013 | July 25, 2013.
680602 | Audubon Zoo | 78 FR 23286; April 18, 2013 | May 21, 2013.
10982A | Austin Savanna | 78 FR 23286; April 18, 2013 | May 21, 2013.
99898A | Collins Red Stag Ranch Ltd | 78 FR 23286; April 18, 2013 | May 21, 2013.
99899A | Collins Red Stag Ranch Ltd | 78 FR 23286; April 18, 2013 | May 21, 2013.
692213 | Columbian Park Zoo | 78 FR 23286; April 18, 2013 | May 21, 2013.
01612B | Suzanne Crow | 78 FR 23286; April 18, 2013 | May 21, 2013.
01540B | Griffith Bros. Whitetail Ridge Inc | 78 FR 23286; April 18, 2013 | May 21, 2013.
03672A | Lake Superior Zoo | 78 FR 23286; April 18, 2013 | May 21, 2013.
00639B | Man Lui | 78 FR 23286; April 18, 2013 | May 21, 2013.
030672 | Lars Petersen | 78 FR 23286; April 18, 2013 | May 21, 2013.
668691 | Tulsa Zoo | 78 FR 23286; April 18, 2013 | May 21, 2013.
681592 | Zoo Miami | 78 FR 23286; April 18, 2013 | May 21, 2013.

Marine Mammals
Permit number | Applicant | Receipt of application Federal Register notice | Permit issuance date
773494 | Florida Fish and Wildlife Conservation Commission | 78 FR 23286; April 18, 2013 | July 26, 2013.
03132B | Sea World Parks & Entertainment, Inc | 78 FR 27253; May 9, 2013 | July 24, 2013.
041309 | USFWS, Marine Mammals Management | 78 FR 34118; June 6, 2013 | July 26, 2013.

Availability of Documents

Documents and other information submitted with these applications are available for review, subject to the requirements of the Privacy Act and Freedom of Information Act, by any party who submits a written request for a copy of such documents to: Division of Management Authority, U.S. Fish and Wildlife Service, 4401 North Fairfax Drive, Room 212, Arlington, VA 22203; fax (703) 358-2280.

Brenda Tapia,
Program Analyst/Data Administrator, Branch of Permits, Division of Management Authority.

[FR Doc. 2013-19269 Filed 8-8-13; 8:45 am]

BILLING CODE 4310-55-P